DEPARTMENT OF AGRICULTURE

Farm Service Agency

Food Aid Quality Improvement Report

AGENCY: Farm Service Agency, USDA.

ACTION: Notice.

SUMMARY: The Farm Service Agency (FSA) is making available the Food Aid Quality Project report prepared by Sharing Science and Technology to Aid in the Improvement of Nutrition (SUSTAIN). The report contains recommendations for improvements in the specifications, micronutrient composition, commodity sampling, and testing regimes for commodities procured by FSA for the U.S. international food assistance programs.

FOR FURTHER INFORMATION CONTACT: Howard Froehlich, Export Program Manager, phone: (202) 720-7398; mail: Farm Service Agency, USDA, ATTN: Howard Froehlich, Export Program Manager, Commodity Operations Divisions, STOP 0553, 1400 Independence Avenue, SW., Washington, DC 20250-0553; e-mail: Howard.Froehlich@wdc.fsa.usda.gov; fax: (202) 690-3123. Persons with disabilities who require alternative means for communication information (Braille, large print, audiotape, etc.) should contact USDA's TARGET Center at (202) 720-2600 (voice and TDD).

SUPPLEMENTARY INFORMATION: The purpose of this notice is to announce the availability of the Food Aid Quality Project report. The Food Aid Quality Project Report was undertaken to meet the objectives established jointly by USDA and the United States Agency for International Development (USAID) to improve and ensure the quality, safety, nutrient delivery and shelf life of international food assistance provided by the U.S. Government to 56 countries worldwide. SUSTAIN, a nonprofit organization, conducted the project and provided the report that contains their findings and recommendations to USDA.

The public can access the published report through the Commodity Operations Web site at http://www.fsa.usda.gov/FSA/webapp?area=home&subject=coop&topic=landing.

USDA will continue to review the report and evaluate the recommendations submitted by SUSTAIN and will consult with the Food Aid Consultative Group before actions are taken in response to the findings.

Signed at Washington, DC, on August 17, 2009.
Jonathan Coppess,
Administrator, Farm Service Agency.

[FR Doc. E9-20296 Filed 8-24-09; 8:45 am]

BILLING CODE 3410-05-P